DEPARTMENT OF DEFENSE

Department of the Army

Notice of Intent To Prepare an Environmental Impact Statement (EIS) for Army Growth at Fort Lewis and the Yakima Training Center (YTC), WA

AGENCY: Department of the Army, DOD.

ACTION: Notice of intent (NOI).

SUMMARY: The U.S. Army intends to prepare an EIS to analyze the environmental and socioeconomic impacts of implementing the stationing and realignment decisions in the 2007 “Grow the Army” Programmatic EIS (GTA PEIS) and other ongoing Army realignment and stationing initiatives that pertain to Fort Lewis and YTC. The GTA PEIS Record of Decision (ROD) made the decision to station additional units at Fort Lewis including an Expeditionary Sustainment Command, and specified unit restructuring actions that would increase active duty strength at Fort Lewis by approximately 1,900 Soldiers. This EIS will also analyze Fort Lewis and YTC as potential locations for the stationing of additional units, to include approximately 1,000 combat service support (CSS) Soldiers consisting of Quartermaster, Medical, Transportation or Headquarters units to support combat operations, and a Combat Aviation Brigade (CAB) consisting of approximately 2,800 soldiers and 110 helicopters. These actions could occur over the next five years.

ADDRESSES: Questions regarding this proposal or written comments should be forwarded to: Department of the Army, Directorate of Public Works, Attention: IMWE-LEW-PWE MS 17 (Mr. Paul T. Steucke, Jr.), Box 339500, Fort Lewis, WA 98433-9500.

FOR FURTHER INFORMATION CONTACT: Mr. Bill Van Hoesen, Fort Lewis NEPA Coordinator at (253) 966-1780 during business hours (8 a.m. to 4 p.m., Monday through Friday).

SUPPLEMENTARY INFORMATION: Fort Lewis is a major Army installation (one of 15 U.S. power projection platforms) encompassing 86,176 acres in western Washington, approximately 35 miles south of Seattle. The 327,231 acre YTC is a sub-installation of Fort Lewis located about 7 miles northeast of the City of Yakima in central Washington. Fort Lewis and YTC are important Army facilities for weapons qualification and field training. In addition to the units stationed there, Reserve and National Guard units, as well as units from allied nations, train at Fort Lewis and YTC.

Stationing and force structure realignment actions across the Army were identified in the GTA PEIS that would increase the Army by approximately 74,000 Soldiers in the next five years. In addition to analyzing the effects of implementing the proposed GTA decisions pertaining to Fort Lewis and YTC, this EIS will analyze the effects from related stationing and force structure decisions of ongoing Army initiatives interconnected with and essential to implementing the GTA decisions. These ongoing initiatives are the Base Realignment and Closure Act of 2005, the Global Defense Posture Realignment, and transition to the Army Modular Force. These actions include stationing and unit restructuring, increased intensity of use of maneuver and live-fire training areas, and construction activity. New construction will be required for new training facilities and ranges; cantonment area development projects such as troop and family housing, administrative facilities, motor pools, child development centers; and infrastructure upgrades.

The EIS will evaluate a range of reasonable alternatives and their subsequent potential environmental impacts resulting from the proposed construction and training activities in order to support the potential stationing of additional CSS units and a CAB. Under the No Action alternative, the proposed site-specific actions to implement the decisions of the GTA and related Army initiatives would not be implemented. Other alternatives may be identified as part of the public scoping process initiated by this NOI.

An impact analysis will be performed for a wide range of environmental resource areas including, but not limited to, air quality, water quality, cultural resources, sensitive species and habitats, soil erosion, traffic and transportation, noise, socioeconomics, land use, utilities, and solid and hazardous materials/waste. The impact analysis will include consideration of the direct, indirect and cumulative impacts of the proposed action and reasonable alternatives. Additional resources and conditions may be identified as a result of the scoping process initiated by this NOI.

Public Participation: The public will be invited to participate in the scoping process, which includes scoping meetings, and encouraged to provide input on the proposed actions and alternatives in the EIS. The scoping process is intended to assist the agency in identifying, among other things, important issues of environmental concern and reasonable alternatives to the proposed action. The public will also be invited to review and comment on the Draft EIS. These public involvement opportunities will be announced in the local news media. To ensure comments are fully considered in the Draft EIS, comments and suggestions should be received no later than 45 days following publication of this NOI. The process will be concluded by preparation of a Final EIS and a ROD choosing a particular course of action.

Dated: December 12, 2008.
Addison D. Davis IV,
Deputy Assistant Secretary of the Army, (Environment, Safety and Occupational Health).

[FR Doc. E8-30174 Filed 12-19-08; 8:45 am]

BILLING CODE 3710-08-M